DEPARTMENT OF THE INTERIOR

Bureau of Reclamation

Notice of Intention To Bill for Trinity Public Utilities District Assessment

AGENCY: Bureau of Reclamation, Interior.

ACTION: Notice of interim billing procedures.

SUMMARY: To comply with the requirements of Public Law 106-377, the Mid-Pacific Region of the Bureau of Reclamation (Reclamation) will be billing Central Valley Project (CVP) water contractors for their share of the Trinity Public Utilities District (TPUD) assessment. This will be an interim process until supplementary rate setting policies are established that ensure full recovery of the assessment without further appropriation as required in the law. Billings will be prepared with payment due within 30 days and the billing period will cover the TPUD assessment for Fiscal Years 2006 and 2007.

DATES: Submit written comments on the direct billing of the TPUD assessment on or before August 18, 2006 to the address below.

ADDRESSES: Written comments on this change in process for collecting the TPUD assessment should be addressed to the Bureau of Reclamation, Attention: Tom Ruthford, MP-3600, 2800 Cottage Way, Sacramento, CA 95825.

FOR FURTHER INFORMATION CONTACT: For additional information, please contact Katherine Thompson at (916) 978-5550 or E-mail: kthompson@mp.usbr.gov.

SUPPLEMENTARY INFORMATION: Beginning in Fiscal Year 2001 and thereafter, Public Law 106-377, Section 203 required Reclamation to collect annually from CVP water contractors an assessment for TPUD. Section 203 states: “Beginning in fiscal year 2001 and thereafter, the Secretary of the Interior shall assess and collect annually from Central Valley Project (CVP) water and power contractors the sum of $540,000 (June 2000 price levels) and remit, without further appropriation, the amount collected annually to the Trinity Public Utilities District (TPUD). This assessment shall be payable 70 percent by CVP Preference Power Customers and 30 percent by CVP Water Customers. The CVP Water Contractor share of this assessment shall be collected by the Secretary through established Bureau of Reclamation (Reclamation) Operation and Maintenance rate setting practices. The CVP Power Contractor share of this assessment shall be assessed by reclamation to the Western Area Power Administration, Sierra Nevada Region (Western), and collected by Western through established power rate setting practices.”

Prior to FY 2006, these funds had been collected as a component of the water rates through the water rate setting process. Further, the Mid-Pacific Region's system to account for water deliveries and resultant revenues remits revenue directly to the U.S. Treasury. While this is appropriate for water revenues, the system is not capable of collecting and accounting for the TPUD assessment separately from water revenue. Consequently, the Mid-Pacific Region is in the process of (1) developing a supplementary rate setting policy to collect the TPUD assessment separately from water revenue; (2) analyzing the extent of system changes, costs, and time required to account for TPUD assessment separately from water revenues; and (3) identifying and implementing preferred system changes.

As an interim measure, the Mid-Pacific Region will bill water contractors for the TPUD assessment. Billings will cover collections for Fiscal Years 2006 and 2007 and the TPUD surcharge will be eliminated from the published water rates for this time period.

John F. Davis,
Deputy Regional Director, Mid-Pacific Region.

[FR Doc. 06-6816 Filed 8-9-06; 8:45 am]

BILLING CODE 4310-MN-M